ENVIRONMENTAL PROTECTION AGENCY

[FRL-9317-2]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2409.01; Production Outlook Reports for Un-Registered Renewable Fuel Producers (New Collection); was approved on 05/05/2011; OMB Number 2060-0660; expires on 05/31/2014; Approved without change.

EPA ICR Number 0783.59; Motor Vehicle Emissions (Final Rule for Revisions to Certification of Alternative Fuels); 40 CFR part 85, subparts E and F; 40 CFR 85.1901—85.1908; 40 CFR parts 85 and 86; 40 CFR part 86.1845—86.1848; and 40 CFR part 600; was approved on 05/05/2011; OMB Number 2060-0104; expires on 05/31/2014; Approved without change.

EPA ICR Number 2382.02; Identification of Non-Hazardous Secondary Materials That Are Solid Waste (Final Rule); 40 CFR 260.22 and 260.31(c); was approved on 05/25/2011; OMB Number 2050-0205; expires on 05/31/2014; Approved without change.

EPA ICR Number 2403.02; EG for Sewage Sludge Incinerators; 40 CFR part 60, subparts MMMM and MMMMM; was approved on 05/25/2011; OMB Number 2060-0661; expires on 05/31/2014; Approved without change.

EPA ICR Number 2384.02; NSPS for Commercial and Industrial Solid Waste Incineration (CISWI) units; 40 CFR part 60, subpart CCCC; was approved on 05/25/2011; OMB Number 2060-0662; expires on 05/31/2014; Approved without change.

EPA ICR Number 2265.01; SmartWay Transport Partnership (New Collection); was approved on 05/27/2011; OMB Number 2060-0663; expires on 05/31/2014; Approved without change.

EPA ICR Number 1365.09; Asbestos-Containing Materials in Schools and Asbestos Model Accreditation Plans; 40 CFR part 763, subpart E, Appendix C; was approved on 05/31/2011; OMB Number 2070-0091; expires on 05/31/2014; Approved without change.

EPA ICR Number 0616.10; Compliance Requirement for Child Resistant Packaging (Renewal); 40 CFR part 157; was approved on 05/31/2011; OMB Number 2070-0052; expires on 05/31/2014; Approved without change.

EPA ICR Number 1246.11; Reporting and Recordkeeping for Asbestos Abatement Worker Protection; 40 CFR part 763, subpart G; was approved on 05/31/2011; OMB Number 2070-0072; expires on 05/31/2014; Approved without change.

EPA ICR Number 2261.02; Safer Detergent Stewardship Initiative (SDSI) Program; was approved on 05/31/2011; OMB Number 2070-0171; expires on 05/31/2014; Approved without change.

Dated: June 2, 2011.
John Moses,
Director, Collections Strategies Division.

[FR Doc. 2011-14191 Filed 6-7-11; 8:45 am]

BILLING CODE 6560-50-P